DEPARTMENT OF ENERGY

International Energy Agency Meetings

AGENCY: Department of Energy.

ACTION: Notice of meetings.

SUMMARY: The Industry Advisory Board (IAB) to the International Energy Agency (IEA) will meet on October 14, 2015, at the headquarters of the IEA in Paris, France, in connection with a joint meeting of the IEA's Standing Group on Emergency Questions (SEQ) and the IEA's Standing Group on the Oil Market (SOM), to be held on the same date.

DATES: October 14, 2015.

ADDRESSES: 9, rue de la Fédération, Paris, France.

FOR FURTHER INFORMATION CONTACT: Thomas Reilly, Assistant General for International and National Security Programs, Department of Energy, 1000 Independence Avenue SW., Washington, DC 20585, 202-586-3417.

SUPPLEMENTARY INFORMATION: In accordance with section 252(c)(1)(A)(i) of the Energy Policy and Conservation Act (42 U.S.C. 6272(c)(1)(A)(i)) (EPCA), the following notice of meeting is provided:

Meetings of the Industry Advisory Board (IAB) to the International Energy Agency (IEA) will be held at the headquarters of the IEA, 9, rue de la Fédération, Paris, France, on October 14, 2015, commencing at 9:30 a.m. The purpose of this notice is to permit attendance by representatives of U.S. company members of the IAB at a joint meeting of the IEA's Standing Group on Emergency Questions (SEQ) and the IEA's Standing Group on the Oil Markets (SOM), which is scheduled to be held at the same location and time. The IAB will also hold a preparatory meeting among company representatives at the same location at 8:30 a.m. on October 14. The agenda for this preparatory meeting is to review the agenda for the SEQ meeting.

The expected participants at the SEQ meeting are Government delegates from IEA Member Countries, representatives of the IEA Secretariat, and representatives of some or all of the following companies and associations, each of which is a member of the IAB:

BHP Petroleum

BP

Chevron Corporation

ConocoPhillips Inc.

ENI S.p.A.

ExxonMobil Corp.

Fortum

Japan Petroleum Development Association

MOL

Neste Oil

OMV A.G.

Petro-Canada Ltd.

Petroleum Association of Japan

PKN ORLENS S.A.

Repsol

Shell International

Statoil

Total S.A.

Representatives of Directorate-General for Competition of the European Commission and representatives of members of the IEA Group of Reporting Companies may attend the meeting as observers. The meeting will also be open to representatives of the Secretary of Energy, the Secretary of State, the Attorney General, and the Federal Trade Commission severally, to any United States Government employee designated by the Secretary of Energy, and to the representatives of Committees of the Congress.

The agenda of the SEQ meeting is under the control of the SEQ. It is expected that the SEQ will adopt the following agenda:

1. Adoption of the Agenda

2. Approval of the Summary Record of the 145th Meeting

3. Status of Compliance with IEP Agreement Stockholding Obligations

4. Australian Compliance Update

5. ERR Programme

6. Mid-term Review of Turkey

7. Emergency Response Review of Denmark

8. Mid-term Review of Austria

9. Emergency Response Review of Norway

10. Outreach Activities

11. Emergency Response Review of Poland

12. Saving Oil in a Hurry

13. Industry Advisory Board Update

14. Analysis of the potential size of the Oil Stocks Ticket Market

15. Outline of ERE8 Plans

16. Ministerial

17. Oral Reports by Administrations

18. Other Business

Schedule of Next SEQ & SOM meetings:

—March 15-17, 2016

—May 31-June 2, 2016

—September 27-29, 2016

This notice is being published less than 15 days prior to the meeting date due to logistical issues caused by late notice of the meeting being provided to DOE.

Issued in Washington, DC, October 2, 2015.
Thomas Reilly,
Assistant General Counsel for International and National Security Programs.

[FR Doc. 2015-25766 Filed 10-8-15; 8:45 am]

BILLING CODE 6450-01-P